DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate and notice of availability of final findings.

SUMMARY: The NOAA Office of Ocean and Coastal Resource Management (OCRM) announces its intent to evaluate the performance of the Louisiana Coastal Resources Management Program and the Jobos Bay (Puerto Rico), Rookery Bay (Florida), and Chesapeake Bay (Maryland) National Estuarine Research Reserves.

The Coastal Zone Management Program evaluation will be conducted pursuant to section 312 of the Coastal Zone Management Act of 1972, as amended (CZMA) and regulations at 15 CFR part 923, subpart L. The CZMA requires continuing review of the performance of states with respect to coastal program implementation. Evaluation of a Coastal Management Program requires findings concerning the extent to which a state has met the national objectives, adhered to its Coastal Management Program document approved by the Secretary of Commerce, and adhered to the terms of financial assistance awards funded under the CZMA.

The National Estuarine Research Reserve evaluations will be conducted pursuant to sections 312 and 315 of the CZMA and regulations at 15 CFR part 921, subpart E and part 923, subpart L. Evaluation of a National Estuarine Research Reserve requires findings concerning the extent to which a state has met the national objectives, adhered to its Reserve final management plan approved by the Secretary of Commerce, and adhered to the terms of financial assistance awards funded under the CZMA.

Each evaluation will include a site visit, consideration of public comments, and consultations with interested Federal, state, and local agencies and members of the public. A public meeting will be held as part of the site visit. When the evaluation is completed, OCRM will place a notice in the Federal Register announcing the availability of the Final Evaluation Findings. Notice is hereby given of the dates of the site visits for the listed evaluations, and the dates, local times, and locations of the public meetings during the site visits.

Dates and Times: The Louisiana Coastal Resources Management Program evaluation site visit will be held January 3-7, 2011. One public meeting will be held during the week. The public meeting will be held on Monday, January 3, 2011, at 6:30 p.m. in the Griffon Room, LaSalle Building, Capitol Complex, 617 North 3rd Street, Baton Rouge, Louisiana.

The Jobos Bay (Puerto Rico) National Estuarine Research Reserve evaluation site visit will be held January 24-28, 2011. One public meeting will be held during the week. The public meeting will be held on Tuesday, January 25, 2011, at 5 p.m. at the Jobos Bay National Estuarine Research Reserve Visitors' Center, Road 705, Kilometer 2.3, Main Street, Aguirre, Puerto Rico.

The Rookery Bay (Florida) National Estuarine Research Reserve evaluation site visit will be held January 24-28, 2011. One public meeting will be held during the week. The public meeting will be held on Wednesday, January 26, 2011, at 6:30 p.m. at the Rookery Bay National Estuarine Research Reserve Environmental Learning Center, 300 Tower Road, Naples, Florida.

The Chesapeake Bay (Maryland) National Estuarine Research Reserve evaluation site visit will be held January 24-28, 2011. One public meeting will be held during the week. The public meeting will be held on Tuesday, January 25, 2011, at 7 p.m. at the McCann Center, Jug Bay Wetlands Sanctuary, 1361 Wrighton Road, Lothian Maryland.

ADDRESSES: Copies of the states' most recent performance reports, as well as OCRM's evaluation notification and supplemental information request letters to the state, are available upon request from OCRM. Written comments from interested parties regarding these Programs are encouraged and will be accepted until 15 days after the public meeting held for a Program. Please direct written comments to Kate Barba, Chief, National Policy and Evaluation Division, Office of Ocean and Coastal Resource Management, NOS/NOAA, 1305 East-West Highway, 10th Floor, N/ORM7, Silver Spring, Maryland 20910, or Kate.Barba@noaa.gov.

SUPPLEMENTARY INFORMATION: Notice is hereby given of the availability of the final evaluation findings for the Rhode Island Coastal Management Program (CMP) and the Tijuana River (California), Padilla Bay (Washington), and North Carolina National Estuarine Research Reserves (NERRs). Sections 312 and 315 of the Coastal Zone Management Act of 1972 (CZMA), as amended, require a continuing review of the performance of coastal states with respect to approval of CMPs and the operation and management of NERRs.

The State of Rhode Island was found to be implementing and enforcing its federally approved coastal management program, addressing the national coastal management objectives identified in CZMA Section 303(2)(A)-(K), and adhering to the programmatic terms of its financial assistance awards. The Tijuana River, Padilla Bay, and North Carolina NERRs were found to be adhering to programmatic requirements of the NERR System.

Copies of these final evaluation findings may be obtained upon written request from: Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

(Federal Domestic Assistance Catalog 11.419; Coastal Zone Management Program Administration)

Dated: November 1, 2010.
Donna Wieting,
Director, Office of Ocean and Coastal Resource Management, National Ocean Service, National Oceanic and Atmospheric Administration.

[FR Doc. 2010-28436 Filed 11-10-10; 8:45 am]

BILLING CODE 3510-08-P